DEPARTMENT OF AGRICULTURE

Agricultural Marketing Service

[Doc. No. AMS-FGIS-18-0076]

Designation for the Georgia Area Consisting of the Entire State of Georgia

AGENCY: Agricultural Marketing Service, USDA.

ACTION: Notice.

SUMMARY: The Agricultural Marketing Service (AMS) is announcing the designation of D.R. Schaal Agency, Inc. (Schaal) to provide official services under the United States Grain Standards Act (USGSA), as amended. The realignment of offices within the U.S. Department of Agriculture authorized by the Secretary's Memorandum dated November 14, 2017, eliminates the Grain Inspection, Packers and Stockyards Administration (GIPSA) as a standalone agency. The grain inspection activities formerly part of GIPSA are now organized under AMS.

DATES: Applicable Date: October 1, 2018.

ADDRESSES: Sharon Lathrop, Compliance Officer, USDA, AMS, FGIS, QACD, 10383 North Ambassador Drive, Kansas City, MO 64153.

FOR FURTHER INFORMATION CONTACT: Sharon Lathrop, 816-891-0415, Sharon.L.Lathrop@ams.usda.gov or FGISQACD@ams.usda.gov.

Read Applications: All applications and comments are available for public inspection at the office above during regular business hours (7 CFR 1.27(c)).

SUPPLEMENTARY INFORMATION: In the April 17, 2017, Federal Register (82 FR 18101), AMS requested applications for designation to provide official services in the Georgia Area.

The current official agency designated in the Georgia Area, the Georgia Department of Agriculture (GDA), and Schaal were the only applicants for designation to provide official services in the Georgia Area. As a result, AMS asked for additional comments in the July 24, 2017, Federal Register (82 FR 34276).

On September 12, 2018, the GDA rescinded its application for designation to provide official services in the Georgia Area. This left Schaal as the only remaining applicant for designation to provide official services in the Georgia Area. AMS evaluated the designation criteria in section 7(f) of the USGSA (7 U.S.C. 79(f)) and determined that Schaal is qualified to provide official services in the geographic area specified in the Federal Register on April 17, 2017. The designation to provide official services in the Georgia Area is effective October 1, 2018, and will be incorporated into Schaal's current designation which is effective from October 1, 2016, to September 30, 2021.

Interested persons may obtain official services by contacting this agency at the following telephone number:

Official agency | Headquarters location and telephone | Designation start | Designation end
Schaal | Belmond, IA, 641-444-3122 | 10/1/2016 | 9/30/2021

Section 7(f) of the USGSA authorizes the Secretary to designate a qualified applicant to provide official services in a specified area after determining that the applicant is better able than any other applicant to provide such official services (7 U.S.C. 79 (f)).

Authority: 7 U.S.C. 71-87k.

Dated: December 11, 2018.
Greg Ibach,
Under Secretary, Marketing and Regulatory Programs.

[FR Doc. 2018-27142 Filed 12-13-18; 8:45 am]

BILLING CODE 3410-02-P